DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Alaska Pacific Halibut Fisheries: Subsistence Registration and Marking of Gear.

OMB Control Number: 0648-0460.

Form Number(s): NA.

Type of Request: Regular submission (extension of a current information collection).

Number of Respondents: 8,598.

Average Hours per Response: Registration, 10 minutes; gear marking, 15 minutes.

Burden Hours: 1,709.

Needs and Uses: This request is for extension of information collection requirements that are part of the program for the Pacific halibut subsistence fishery. The program includes requirements for registration to participate in the fishery and the marking of certain types of gear used in this fishery. Eligibility and requirements are codified in 50 CFR 300.65. The registration requirement is intended to allow qualified persons to practice the long-term, customary, and traditional harvest of Pacific halibut for food in a noncommercial manner. The gear-marking requirement aids in enforcement and in actions related to gear damage or loss. The registration information may be submitted by an individual or as a list of multiple individuals from an Alaska Native tribe.

Affected Public: State, local or tribal government.

Frequency: Every two or every four years.

Respondent's Obligation: Required to obtain or retain benefits.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: November 13, 2012.
Gwellnar Banks,
Management Analyst, Office of the Chief Information Officer.

[FR Doc. 2012-27940 Filed 11-15-12; 8:45 am]

BILLING CODE 3510-22-P